DEPARTMENT OF THE INTERIOR

Bureau of Indian Affairs

[256A2100DD/AAKC001030/A0A51010.000000]

Request for Nominations for Bureau of Indian Education Advisory Board for Exceptional Children

AGENCY: Bureau of Indian Affairs, Interior

ACTION: Notice of request for nominations.

SUMMARY: Pursuant to the Federal Advisory Committee Act and the Individuals with Disabilities Education Act of 2004 (IDEA), the Bureau of Indian Education (BIE) requests nominations of individuals to serve on the Advisory Board for Exceptional Children (Advisory Board). There will be four positions available to serve specifically in the areas of: Indian persons with disabilities; Service providers to children with disabilities; State education officials; or State Interagency Coordinating Councils under section 641 of the Act in States having Indian reservations. Advisory Board members shall serve a staggered term of two years or three years from the date of their appointment. The BIE will consider nominations received in response to this request for nominations, as well as other sources. The SUPPLEMENTARY INFORMATION section of this notice provides Advisory Board and membership criteria.

DATES: All nominations must be received no later than June 6, 2025.

ADDRESSES: Please submit nominations to Ms. Jennifer Davis, Designated Federal Officer (DFO), Bureau of Indian Education, Division of Performance and Accountability, 2600 N Central Ave., Suite 800, Phoenix, AZ 85004, or Fax to (602) 265-0293 or email to jennifer.davis@bie.edu.

FOR FURTHER INFORMATION CONTACT: Jennifer Davis, DFO, at telephone (202) 860-7845; or email jennifer.davis@bie.edu.

SUPPLEMENTARY INFORMATION: The Advisory Board was established in accordance with the Federal Advisory Committee Act, Public Law 92-463. The following provides information about the Advisory Board, the membership, and the nomination process.

1. Objective and Duties

(a) Members of the Advisory Board will provide guidance, advice and recommendations with respect to special education and related services for children with disabilities in BIE funded schools in accordance with the requirements of IDEA.

(b) The Advisory Board will: (1) Provide advice and recommendations for the coordination of services within the BIE and with other local, State and Federal agencies; (2) Provide advice and recommendations on a broad range of policy issues dealing with the provision of educational services to American Indian children with disabilities; (3) Serve as advocates for American Indian students with special education needs by providing advice and recommendations regarding best practices, effective program coordination strategies, and recommendations for improved educational programming; (4) Provide advice and recommendations for the preparation of information required to be submitted to the Secretary of Education under 20 U.S.C. 1411(h)(2); (5) Provide advice and recommend policies concerning effective inter/intra agency collaboration, including modifications to regulations, and the elimination of barriers to inter- and intra-agency programs and activities; and (6) Will report and direct all correspondence to the Assistant Secretary—Indian Affairs through the Director, BIE with a courtesy copy to the Designated Federal Officer (DFO).

2. Membership

(a) Pursuant to 20 U.S.C. 1411(h)(6), the Advisory Board will be composed of up to fifteen individuals involved in or concerned with the education and provision of services to American Indian infants, toddlers, children, and youth with disabilities. The Advisory Board composition will reflect a broad range of viewpoints and will include at least one member representing each of the following interests: American Indians with disabilities; teachers of children with disabilities; American Indian parents or guardians of children with disabilities; service providers; state education officials; local education officials; state interagency coordinating councils (for States having Indian reservations); Tribal representatives or Tribal organization representatives; and other members representing the various divisions and entities of the BIE.

(b) The Assistant Secretary—Indian Affairs may provide the Secretary of the Interior recommendations for the chairperson; however, the chairperson and other Advisory Board members will be appointed by the Secretary of the Interior. Advisory Board members shall serve staggered terms of two years or three years from the date of their appointment.

3. Miscellaneous

(a) Members of the Advisory Board will not receive compensation, but will be reimbursed for travel, including subsistence, and other necessary expenses incurred in the performance of their duties in the same manner as persons employed intermittently in Government Service under 5 U.S.C. 5703.

(b) A member may not participate in matters that will directly affect, or appear to affect, the financial interests of the member or the member's spouse or minor children, unless authorized by the appropriate ethics official. Compensation from employment does not constitute a financial interest of the member so long as the matter before the Advisory Board will not have a special or distinct effect on the member or the member's employer, other than as part of a class. The provisions of this paragraph do not affect any other statutory or regulatory ethical obligations to which a member may be subject.

(c) The Advisory Board meets at least three or four times a year, budget permitting, but additional meetings may be held as deemed necessary by the Assistant Secretary—Indian Affairs or the DFO.

(d) All Advisory Board meetings are open to the public in accordance with the Federal Advisory Committee Act regulations.

4. Nomination Information

(a) Nominations are requested from individuals, organizations, and federally recognized tribes, as well as from State Directors of Special Education (within the 23 states in which BIE-funded schools are located) concerned with the education of Indian children with disabilities as described above.

(b) Nominees should have experience and knowledge of the issues and/or needs of American Indian children with disabilities. Such knowledge and experience are needed to provide advice and recommendations to the BIE regarding the needs of American Indian children with disabilities.

(c) A summary of the candidates' qualifications (resume or curriculum vitae) must be included with a completed nomination application form, which is located on the Bureau of Indian Education website. Nominees must have the ability to attend Advisory Board meetings, carry out Advisory Board assignments, participate in teleconference calls, and work in groups.

(d) The Department of the Interior is committed to equal opportunities in the workplace and seeks fairly balanced Advisory Board membership, which is bound by Indian Preference Act of 1990 (25 U.S.C. 472).

5. Basis for Nominations

If you wish to nominate someone for appointment to the Advisory Board, please do not make the nomination until the person has agreed to have his or her name submitted to the BIE for this purpose. A person can also self-nominate.

6. Nomination Application

Please submit a complete application form and a copy of the nominee's resume or curriculum vitae to the DFO by June 6, 2025. The nomination application form can be found on the BIE website at https://www.bie.edu/landing-page/special-education.

7. Information Collection

This collection of information is authorized by OMB Control Number 1076-0179, “Solicitation of Nominations for the Advisory Board for Exceptional Children” Dated: 11/30/2027.

Authority: 5 U.S.C. Ch. 10; 20 U.S.C. 1400 et seq.

Scott J. Davis,
Senior Advisor to the Secretary, Exercising the delegated authority of the Assistant Secretary—Indian Affairs.

[FR Doc. 2025-05931 Filed 4-4-25; 8:45 am]

BILLING CODE 4337-15-P